DEPARTMENT OF STATE

[Public Notice 6648]

Review of Foreign Terrorist Organization Designation for Kahane Chai, Also Known as KACH, and Other Aliases

Pursuant to section 219(a)(4)(C) of the Immigration and Nationality Act, as amended (8 U.S.C. 1189 (a)(4)(C)), the Department of State is undertaking a review of the designation of the above-named group as a Foreign Terrorist Organization. Representatives and members of the above-named group may provide the Department of State with a written statement or other documentary materials for consideration as part of the review process and inclusion in the administrative record. Such materials must be submitted by June 12, 2009 to: The Coordinator for Counterterrorism, United States Department of State, 2201 C Street, NW., Washington, DC 20520.

This notice shall be published in the Federal Register.

Dated: May 13, 2009.
Ronald L. Schlicher,
Acting Coordinator for Counterterrorism, Department of State.

[FR Doc. E9-12821 Filed 6-1-09; 8:45 am]

BILLING CODE 4710-10-P